NUCLEAR REGULATORY COMMISSION

[NRC-2011-0266]

Evaluations of Uranium Recovery Facility Surveys of Radon and Radon Progeny

AGENCY: Nuclear Regulatory Commission.

ACTION: Revised draft interim staff guidance; request for comment.

SUMMARY: The U.S. Nuclear Regulatory Commission (NRC) staff is issuing for public comment Interim Staff Guidance (ISG) FSME-ISG-01, “Evaluations of Uranium Recovery Facility Surveys of Radon and Radon Progeny in Air and Demonstrations of Compliance with 10 CFR 20.1301.” This ISG provides guidance to the NRC staff for evaluating uranium recovery (UR) licensee demonstrations of compliance with the public dose limits.

DATES: Submit comments by May 27, 2014. Comments received after this date will be considered if it is practical to do so, but the Commission is able to ensure consideration only for comments received before this date.

ADDRESSES: You may submit comments by any of the following methods (unless this document describes a different method for submitting comments on a specific subject):

• Federal Rulemaking Web site: Go to http://www.regulations.gov and search for Docket ID NRC-2011-0266. Address questions about NRC dockets to Carol Gallagher; telephone: 301-287-3422; email: Carol.Gallagher@nrc.gov. For technical questions, contact the individual(s) listed in the FOR FURTHER INFORMATION CONTACT section of this document.

• Mail comments to: Cindy Bladey, Chief, Rules, Announcements, and Directives Branch (RADB), Office of Administration, Mail Stop: 3WFN-06-44M, U.S. Nuclear Regulatory Commission, Washington, DC 20555-0001.

For additional direction on accessing information and submitting comments, see “Accessing Information and Submitting Comments” in the SUPPLEMENTARY INFORMATION section of this document.

FOR FURTHER INFORMATION CONTACT: Duane Schmidt, Office of Federal and State Materials and Environmental Management Programs, telephone: 301-415-6919; email: Duane.Schmidt@nrc.gov; U.S. Nuclear Regulatory Commission, Washington, DC 20555-0001.

SUPPLEMENTARY INFORMATION:

I. Accessing Information and Submitting Comments

A. Accessing Information

Please refer to Docket ID NRC-2011-0266 when contacting the NRC about the availability of information regarding this document. You may access publicly-available information related to this document by any of the following methods:

• Federal Rulemaking Web site: Go to http://www.regulations.gov and search for Docket ID NRC-2011-0266.

• NRC's Agencywide Documents Access and Management System (ADAMS): You may access publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The revised draft ISG, FSME-ISG-01, “Evaluations of Uranium Recovery Facility Surveys of Radon and Radon Progeny in Air and Demonstrations of Compliance with 10 CFR 20.1301,” is available in ADAMS under accession no. ML13310A198. The initial version of the draft ISG is available in ADAMS under accession no. ML112720481.

• NRC's PDR: You may examine and purchase copies of public documents at the NRC's PDR, Room O1-F21, One White Flint North, 11555 Rockville Pike, Rockville, Maryland 20852.

B. Submitting Comments

Please include Docket ID NRC-2011-0266 in the subject line of your comment submission, in order to ensure that the NRC is able to make your comment submission available to the public in this docket.

The NRC cautions you not to include identifying or contact information that you do not want to be publicly disclosed in you comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

Uranium recovery facility licensees, including in-situ recovery facilities and conventional uranium mills, are required to perform surveys of radiation levels in unrestricted and controlled areas, and to perform surveys of radioactive materials in effluents released to unrestricted and controlled areas to demonstrate compliance with the dose limits for individual members of the public provided in section 20.1301 of Title 10 of the Code of Federal Regulations (10 CFR). The NRC regulations in 10 CFR 20.1302 permit the use of alternative approaches to demonstrate compliance with the public dose limits.

This ISG is being developed to document the criteria to be used by the NRC staff to review radon and radon progeny surveys and evaluations of dose to members of the public submitted by licensees under 10 CFR 20.1302 to demonstrate compliance with the NRC public dose limits of 10 CFR 20.1301. Specifically, when finalized, this ISG will provide guidance to the NRC staff for reviewing licensee evaluations of doses to members of the public from radon-222 and radon-222 progeny from UR facilities including: (1) Surveys of environmental and effluent radon and radon progeny in air; and (2) radon-related aspects of demonstrations of compliance with the NRC's public dose limits of 10 CFR 20.1301. When finalized, this ISG may also be used by the NRC staff in evaluating portions of license applications, renewals, or amendments dealing with radon and radon progeny surveys and compliance. The NRC published an initial draft version of this ISG for public comment on November 21, 2011 (76 FR 72006). The NRC staff considered the public comments in preparing the revised draft report.

Dated at Rockville, Maryland, this 20th day of March 2014.
For the Nuclear Regulatory Commission.
Andrew Persinko,
Deputy Director, Decommissioning and Uranium Recovery Licensing Directorate, Division of Waste Management and Environmental Protection, Office of Federal and State Materials and Environmental Management Programs.

[FR Doc. 2014-06785 Filed 3-26-14; 8:45 am]

BILLING CODE 7590-01-P